NUCLEAR REGULATORY COMMISSION

[Docket No. 050-16; NRC-2010-0159]

DTE Energy; Enrico Fermi Atomic Power Plant, Unit 1

Environmental Assessment and Finding of No Significant Impact for an Exemption From Certain Control and Tracking Requirements in 10 CFR Part 20 Appendix G Section III.E

The U.S. Nuclear Regulatory Commission (NRC) is considering issuance of an exemption from certain control and tracking requirements in 10 CFR Part 20 Appendix G Section III.E for Facility Operating License No. DPR-9 issued to DTE Energy (DTE or the licensee), for the Enrico Fermi Atomic Power Plant Unit 1, (Fermi-1) located in Monroe County, Michigan.

Environmental Assessment

Identification of Proposed Action

The proposed action is in accordance with the licensee's application for an exemption dated November 13, 2009. The licensee has requested an exemption from certain control and tracking requirements in 10 CFR Part 20 Appendix G Section III.E, which require the licensee to investigate, and file a report with the NRC, if shipments of low-level radioactive waste are not acknowledged by the intended recipient within 20 days after transfer to the shipper.

The proposed action would grant an exemption to extend the time period that can elapse during shipments of low-level radioactive waste before the licensee is required to investigate and file a report with the NRC. Specifically, the exemption would extend the time period for the licensee to receive acknowledgment that the low-level radioactive waste shipment has been received by the intended recipient from 20 days to 35 days.

The Need for the Proposed Action

DTE is in the process of decommissioning Fermi-1. During the decommissioning process, large volumes of slightly contaminated debris are generated and require disposal. DTE transports low-level radioactive waste from Fermi-1 to distant locations such as a waste disposal facility operated by Energy Solutions in Clive, Utah.

The licensee's request to extend the 20-day investigation and reporting requirements for shipments of low-level radioactive waste to 35 days is based on historical data derived from recent shipments from Fermi-1. That experience indicates that rail or mixed mode truck/rail transportation times to waste disposal facilities consistently exceeded the 20-day reporting requirement. A review of the data indicates that transportation time for shipments by rail or truck/rail took over 20 days on average and, on occasion, took up to 34 days to receive the manifest confirming shipment. Shipping from Fermi-1 is expected to continue to be either by rail or a combination of truck/rail shipments, as larger and bulkier components are planned for shipment. The use of rail is expected to continue to result in shipping delays that exceed the 20 day reporting time for shipments from Fermi-1.

The licensee believes, and the staff agrees, that the need to investigate, trace, and report to the NRC on the shipment of low-level waste packages not reaching their destination within 20 days does not serve the underlying purpose of the rule. Therefore, the NRC staff finds that granting an exemption to extend the time period from 20 days to 35 days for mixed-mode or truck/rail or rail shipments of low-level radioactive waste will not result in an undue hazard to life or property.

Environmental Impacts of the Proposed Action

The NRC has reviewed the licensee's proposed exemption request and concluded that the proposed exemption is procedural and administrative in nature.

The proposed action will not significantly increase the probability or consequences of accidents, no changes are being made in the types of any effluents that may be released offsite, and there is no significant increase in occupational or public radiation exposure. Therefore, there are no significant radiological environmental impacts associated with the proposed action.

With regard to potential nonradiological impacts, the proposed action does not involve any historic sites. It does not affect nonradiological plant effluents and has no other environmental impact. Therefore, there are no significant nonradiological environmental impacts associated with the proposed action.

Accordingly, the NRC concludes that there are no significant environmental impacts associated with the proposed action.

Alternatives to the Proposed Action

As an alternative to the proposed action, the staff considered denial of the proposed action (i.e., the “no-action” alternative). Denial of the application would result in no change in current environmental impacts. The environmental impacts of the proposed action and the alternative action are similar.

Agencies and Persons Contacted

In accordance with NRC policy, on March 23, 2010, NRC staff consulted with a representative from the Michigan Department of Natural Resources and the Environment, Radiological Protection and Medical Waste Section, regarding the environmental impact of the proposed action. The state official had no comments.

Finding of No Significant Impact

On the basis of the environmental assessment, the NRC concludes that the proposed action will not have a significant effect on the quality of the human environment. Accordingly, the NRC has determined not to prepare an environmental impact statement for the proposed action.

Dated at Rockville, Maryland, this 14th day of April 2010.
For the U.S. Nuclear Regulatory Commission.
Keith I. McConnell,
Deputy Director, Decommissioning and Uranium Recovery Licensing Directorate, Division of Waste Management and Environmental Protection, Office of Federal and State Materials and Environmental Management Programs.

[FR Doc. 2010-9160 Filed 4-20-10; 8:45 am]

BILLING CODE 7590-01-P